DEPARTMENT OF LABOR

Employment and Training Administration

[TA-W-62,679]

Hydraulic Technologies, Inc., Currently Known as HTI Hydraulic Technologies, LLC, Galion, OH; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on February 22, 2008, applicable to workers of Hydraulic Technologies, Inc., Galion, Ohio. The notice was published in the Federal Register on March 7, 2008 (73 FR 12466).

At the request of the State agency, the Department reviewed the certification for workers of the subject firm. The workers are engaged in the production of hydraulic cylinders.

New information shows that in September 2007 Ligon Industries purchased the assets of Hydraulic Technologies, Inc. and is currently known as HTI Hydraulic Technologies, LLC.

Accordingly, the Department is amending this certification to show that Hydraulic Technologies, Inc. is currently known as HTI Hydraulic Technologies, LLC.

The intent of the Department's certification is to include all workers of Hydraulic Technologies, Inc., currently known as HTI Hydraulic Technologies, LLC who were adversely affected by increased imports hydraulic cylinders.

The amended notice applicable to TA-W-62,679 is hereby issued as follows:

All workers of Hydraulic Technologies, Inc., currently known as HTI Hydraulic Technologies, LLC, Galion, Ohio, who became totally or partially separated from employment on or after December 27, 2006, through February 22, 2010, are eligible to apply for adjustment assistance under Section 223 of the Trade Act of 1974, and are also eligible to apply for alternative trade adjustment assistance under Section 246 of the Trade Act of 1974.

Signed at Washington, DC this 13th day of August, 2008.
Elliott S. Kushner,
Certifying Officer, Division of Trade Adjustment Assistance.

[FR Doc. E8-19407 Filed 8-20-08; 8:45 am]

BILLING CODE 4510-FN-P